DEPARTMENT OF AGRICULTURE

Submission for OMB Review; Comment Request

December 16, 2005.

The Department of Agriculture has submitted the following information collection requirements(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV. or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: School Lunch and Breakfast Cost Study-II.

OMB Control Number: 0584-NEW.

Summary of Collection: In light of all of the changes that have taken place in school food service and school finance over the past 12 years, there is a critical need for updated information on the adequacy of Federal meal reimbursement rates. There is an important need to understand the current cost and revenue structure of School Food Authorities (SFAs). Rising labor costs, food costs, and tighter school district budgets may have changed the way in which school meals are produced. The School Lunch and Breakfast Cost Study-II will collect and analyze data from a nationally representative sample of public schools participating in the National School Lunch Program (NSLP). Data will be collected so as to provide sufficient information on school meal production costs to assess the adequacy of Federal meal reimbursement rates.

Need and Use of the Information: The collected information from the study will be used to determine the national average reported and full costs to produce NSLP and School Breakfast Program (SBP) reimbursable meals, the extent to which indirect costs are charged to SFA accounts for food service operations, the value of administrative costs used to produce reimbursable NSLP and SBP meals, and the composition of SFA revenues, including federal reimbursements, cafeteria sales and State and local cash assistance in comparison to costs.

Description of Respondents: State, Local or Tribal Government.

Number of Respondents: 904.

Frequency of Responses: Reporting: Other (one-time).

Total Burden Hours: 2,874.

Ruth Brown,
Departmental Information Collection Clearance Officer.

[FR Doc. 05-24333 Filed 12-21-05; 8:45 am]

BILLING CODE 3410-30-M